ENVIRONMENTAL PROTECTION AGENCY

40 CFR Part 52

[UT-001-0042; FRL-7238-5]

Approval and Promulgation of Air Quality Implementation Plans; State of Utah; Salt Lake County—Trading of Emission Budgets for PM10 Transportation Conformity

AGENCY: Environmental Protection Agency (EPA).

ACTION: Final rule.

SUMMARY: EPA is finalizing approval of the State of Utah's revision to the Utah State Implementation Plan (SIP) that was submitted by the Governor on May 13, 2002. This SIP revision allows trading from the motor vehicle emissions budget for primary Particulate Matter of 10 microns or less in diameter (PM10) to the motor vehicle emissions budget for Nitrogen Oxides (NOX) which is a PM10 precursor. EPA's approval of this SIP revision allows Salt Lake County to increase their NOX budget in the Salt Lake County PM10 SIP by decreasing their PM10 budget in the Salt Lake County PM10 SIP by an equivalent amount, and use these adjusted motor vehicle emissions budgets for NOX and PM10 to demonstrate transportation conformity with the Salt Lake County PM10 SIP. Trading between emissions budgets for transportation conformity is allowable as long as a trading mechanism is approved into the SIP.

On May 1, 2002, EPA published a notice of proposed rulemaking (NPR) that used EPA's parallel processing procedure to propose approval of this SIP revision (67 FR 21607). EPA's NPR was in response to a letter of March 15, 2002, in which the Governor asked that EPA parallel process a proposed revision to the Salt Lake County PM10 SIP consisting of a new rule, R307-310 “Salt Lake County: Trading of Emission Budgets for Transportation Conformity.” On May 13, 2002, the Governor submitted the final version of R307-310 for EPA's approval.

EPA's 30-day comment period concluded on May 31, 2002. During this comment period, EPA received one comment letter in response to the May 1, 2002, NPR.

In this final rule action, EPA summarizes all comments and EPA's responses, and approves the Governor's May 13, 2002, final SIP revision, involving Utah's new rule R307-310.

EFFECTIVE DATE: July 31, 2002.

ADDRESSES: Richard R. Long, Director, Air and Radiation Program, Mailcode 8P-AR, United States Environmental Protection Agency, Region VIII, 999 18th Street, Suite 300, Denver, Colorado 80202-2466.

Copies of the documents relevant to this action are available for public inspection during normal business hours at the following offices: United States Environmental Protection Agency, Region VIII, Air and Radiation Program, 999 18th Street, Suite 300, Denver, Colorado 80202-2466.

Copies of the State documents relevant to this action are available for public inspection at: Utah Department of Environmental Quality, Division of Air Quality, 150 North 1950 West, Salt Lake City, Utah 84114-4820.

FOR FURTHER INFORMATION CONTACT: Tim Russ, Air and Radiation Program, Mailcode 8P-AR, United States Environmental Protection Agency, Region VIII, 999 18th Street, Suite 300, Denver, Colorado 80202-2466. Telephone number: (303) 312-6479.

SUPPLEMENTARY INFORMATION: Throughout this document wherever “we”, “us”, or “our” are used we mean the Environmental Protection Agency.

I. What Is the Purpose of This Action?

In this final rulemaking action, we are addressing comments received regarding our NPR and we are approving R307-310 as a revision to the Utah SIP.

With the publication of our NPR on May 1, 2002, (67 FR 21607), we utilized our parallel processing procedure ¹ that allows EPA to propose rulemaking on a SIP revision, and solicit public comment, at the same time the State is processing the SIP revision.

¹ For further information regarding parallel processing, please see Title 40 of the Code Of Federal Regulations, part 51, appendix V, section 2.3.1.

The Utah Air Quality Board (UAQB) proposed the SIP revision for a 30-day State public comment period that began on April 1, 2002, and ended on April 30, 2002. The State conducted a public hearing on April 22, 2002. Final action and approval was taken by the UAQB on May 13, 2002. Rule R307-310 became State-effective on May 13, 2002.

On May 13, 2002, the Governor submitted the final version of rule R307-310 to us for approval into the Utah SIP.

II. What Is the State's Process To Submit These Materials to EPA?

Section 110(k) of the CAA addresses our actions on submissions of revisions to a SIP. The CAA requires States to observe certain procedural requirements in developing SIP revisions for submittal to us. Section 110(a)(2) of the CAA requires that each SIP revision be adopted after reasonable notice and public hearing. This public process must occur prior to the State submitting its final revisions to us.

At the March 13, 2002, UAQB meeting, the UAQB proposed for public comment the new rule R307-310. The Utah Air Quality Board (UAQB) proposed the SIP revision for a 30-day State public comment period that began on April 1, 2002, and ended on April 30, 2002. The State conducted a public hearing on April 22, 2002. Final action and approval was taken by the UAQB on May 13, 2002. Rule R307-310 became State-effective on May 13, 2002.

On May 13, 2002, the Governor submitted the final rule R307-310 to us for approval into the Utah SIP. In a letter dated June 6, 2002, from Robert E. Roberts, EPA Regional Administrator for Region VIII, to Governor Leavitt of Utah, we determined that the Governor's May 13, 2002, SIP submittal met the completeness criteria in 40 CFR part 51, Appendix V, and therefore the submittal was considered administratively and technically complete.

III. Supplementary Information

The Governor's May 13, 2002, final submittal of rule R307-310 and technical justification did not change from the proposed version on which we based our May 1, 2002, NPR. Therefore, our review and discussion of Utah's rule R307-310 and accompanying technical justification will not be restated here. The reader is referred to our May 1, 2002, NPR (see 67 FR 21607) for any further information.

IV. Public Comments and EPA's Responses

In response to our May 1, 2002, NPR (67 FR 21607), we received a comment letter from the Utah Chapter of the Sierra Club. The following discussion summarizes and responds to those comments.

Comment 1: The Sierra Club states there is a need to reduce PM2.5 in Salt Lake County. The Sierra Club states that based on Utah air monitoring data, the area exceeded the PM2.5 National Ambient Air Quality Standard (NAAQS) seven times in 2001 and to date, twice in 2002. The Sierra Club asserts that reducing PM2.5 and its precursors in Salt Lake County must be taken seriously in order to prevent a violation of the PM2.5 NAAQS. Sierra Club further states the area is in danger of violating the current PM2.5 NAAQS, which itself could be strengthened after the current review process.

Response to Comment 1: EPA is aware of the PM2.5 NAAQS exceedances that have been recorded in Salt Lake County. However, we also note the current levels of emissions have not caused the area to violate the PM2.5 NAAQS. In addition, many areas across the nation are like Salt Lake County in that data is still being gathered for future PM2.5 NAAQS designations. To date, EPA has not designated areas attainment or nonattainment for the PM2.5 NAAQS under section 107 of the Clean Air Act (CAA) and we have also not established an implementation policy for the PM2.5 NAAQS. EPA is currently in the process of developing a PM2.5 implementation policy. Finally, the PM standards, as correctly noted by Sierra Club, are currently undergoing review by EPA. A target for completion for this review is 2004. At this point in time, prior to the designation of areas for PM2.5, no obligations to submit SIPs requiring emission reductions or controls for PM2.5 apply to the State or the Salt Lake County area. Consequently, we are not in a position to disapprove this trading mechanism based on potential impacts on PM2.5.

Comment 2: The Sierra Club states that the CAA section 176(c )(1)(B) specifies that conformity to an implementation plan means that such activities will not (I) “cause or contribute to any new violation of any standard in any area”. Sierra Club asserts it is clear from this section that transportation plans must not cause or contribute to a violation of PM2.5 NAAQS, as well as NAAQS for PM10, ozone (eight hour as well as 1 hour), carbon monoxide and other pollutants for which there is a standard.

Response to Comment 2: We disagree with the conclusions that Sierra Club has expressed regarding the intentions of section 176 of the CAA. Section 176(c)(5) of the CAA as well as Title 40 of the Code of Federal Regulations (CFR) 93.102(b) specifically state that conformity only applies to nonattainment and maintenance areas, and only to the specific pollutant for which the area was designated nonattainment. Conformity does not apply with respect to either the new PM2.5 or the new 8-hour ozone standard until one year after an area is designated as nonattainment for one of those standards, according to Clean Air Act Section 176(c)(6). As EPA has not yet designated any areas nonattainment for either the PM2.5 NAAQS or the 8-hour ozone NAAQS, conformity determinations for the PM2.5 and the 8-hour ozone standards are currently not required. Furthermore, section 176 of the CAA contains no requirement that we consider the PM2.5 and the 8-hour ozone standards in deciding whether to approve this SIP revision.

Comment 3: Sierra Club stated the following: “All NOX that becomes PM10 is PM2.5, whereas not all direct PM10 is PM2.5. The proposed rule should, but does not, make this distinction. The proposed rule does not compare the portion of direct PM10 that is PM2.5 with the portion of NOX that becomes PM2.5 when asserting that there is a benefit in moving part of the direct PM10 budget to the NOX budget in the PM10 SIP. There is a difference in health effects between breathing PM2.5 nitrates and breathing coarse PM10 road dust.”

Response to Comment 3: As we noted in our response to comment 1 above, EPA has not designated areas attainment or nonattainment for the PM2.5 NAAQS under section 107 of the CAA and we have not established an implementation policy for the PM2.5 NAAQS. If Salt Lake County is ultimately designated nonattainment for PM2.5, the State will then need to submit a SIP revision to address PM2.5 pursuant to applicable deadlines. At that time, the State may need to reevaluate the budget trading rule, R307-310, in relation to a PM2.5 attainment demonstration. At this time, we are not in a position to require a rigorous analysis of impacts on PM2.5 attainment.

However, we have reviewed the ambient air quality data for PM2.5 for Salt Lake County that has been archived by the State in our Aerometric Information and Retrieval System (AIRS) national database. Based on the information in AIRS, we have determined that were we to do designations at this point in time, Salt Lake County would be attainment for PM2.5. Further, using the maximum concentration monitor for Salt Lake County, the preliminary design value for PM2.5 would be 55 micro grams per cubic meter (ug/m³) and would correlate to only 85% of the PM2.5 24-hour standard of 65 ug/m³. Therefore, we do not believe that our approval of R307-310, which does not involve trading of PM10 or NOX emissions from any source category other than motor vehicles, will lead to a violation of the PM2.5 NAAQS. We also note that motor vehicle NOX emissions will decline significantly starting in 2004 based on new Federal tailpipe emission standards for vehicles and the local controls (Inspection and Maintenance along with On-Board Diagnostics) as are described further in our response to comment 5 below.

An additional point we would like to make is that not all NOX forms particles. Of the NOX that does form particles, initially it may be all PM fines, but over time particles may aggregate to form larger particles. We noted this aspect in our NPR at 67 FR 21609: “After this initial conversion, only a fraction of the gaseous nitric acid will condense as ammonium nitrate PM10 depending on the equilibrium considerations. Finally, during the gas-to-particle conversion process, deposition will remove a significant amount of material.”

Comment 4: Sierra Club states: “There is a discussion of general NOX conversion rates to nitric acid and PM10 in columns 1 and 2 on p. 21609. Does this general formula relate to NOX conversion rates during the type of inversions we have during the winter in Salt Lake County? Our high levels of ambient PM2.5 occur during these inversions. There is also the statement that “Another concern is that the rate of conversion to PM10 may be so long that the precursor may not entirely convert to PM10 within the same nonattainment area.” Is this statement true of what happens to NOX conversion to PM10 in our inversions? To what extent is it possible for the conversion to occur outside the area of the inversion?”

Response to Comment 4: With respect to the questions regarding conversion rates, we have discussed this with the State. Based on the State's use of our air dispersion model, UAM-AERO, to perform preliminary modeling efforts, we believe that the general formula stated in our NPR would apply to the Salt Lake County area. The general statement in our NPR regarding length of time for conversion may also be applicable to the Salt Lake County area, but we can not specifically quantify the extent to which conversion would occur outside the area of an inversion in the Salt Lake area.

Comment 5: Sierra Club stated there was a lack of consideration of alternatives to reduce NOX emissions; “The proposed rule appears to be an example of the emphasis of many MPO's, state and some federal agencies on moving numbers around to show conformity of transportation plans with the SIPs, rather than expending effort on developing effective measures to reduce Vehicle Miles Traveled (VMT) and mobile source emissions. This is a major concern for us. To us, the excessive NOX emissions show that we must seek alternatives that would reduce mobile NOX.”

Response to Comment 5.: We are not required to consider alternatives to reduce NOX emissions. Our obligation under the CAA is to evaluate submitted SIP revisions against the requirements of the CAA; if a submission meets the CAA's requirements, we are required to approve it, even if there might be other alternatives that would reduce emissions more. As we have noted in our NPR, the transportation conformity rule at 40 CFR 93.124(c) allows for trading between budgets if the SIP established a mechanism for doing so. We have evaluated Utah's trading rule and have concluded it will not cause violations of the NAAQS. This SIP revision meets the requirements of the CAA and we are approving it.

Furthermore, we believe NOX emissions will continue to decrease in Salt Lake County over time. First, on February 10, 2000, EPA published a final rule in the Federal Register (see 65 FR 6698) that set specific Tier II on-road motor vehicle emission specifications for new-manufactured vehicles. Starting in 2004, new vehicles will have to meet more stringent tailpipe emission standards including a standard for NOX. As these new vehicles enter the fleets of metropolitan areas, such as Salt Lake County, significant reductions in NOX emissions will be realized. Additional NOX reductions were realized beginning in 2001 from our National Low Emitting Vehicle (NLEV) agreement with automakers and our Heavy Duty Diesel (HDD) emission requirements (see 65 FR 59895). Second, Salt Lake County continues to operate a motor vehicle emissions inspection and maintenance (I/M) program which identifies vehicles that do not pass required emission specifications and must be repaired. This I/M program includes emission specifications for NOX. In addition to the County's existing I/M program, the State has also required all four Wasatch Front Counties (Weber, Davis, Salt Lake, and Utah) to implement EPA's On-Board Diagnostics II (OBD II) program. OBD II uses information from the vehicle's on-board computer system to determine if there are faults in the emissions control systems, detect an engine malfunction or deterioration, and provide information that allows for early diagnosis of emission control equipment malfunction. The Governor submitted the State's OBD II rule to EPA for approval into the SIP. We have published a notice proposing to approve the State's OBD II rule (see 67 FR 9425, March 1, 2002) and are currently preparing a final rule for the approval of the OBD II program.

The WFRC's conformity determination for the Long Range Transportation Plan (LRTP), that was approved on January 11, 2002, by the Federal Highway Administration (FHWA), reflects the benefits of the above programs in the projected future year emissions from motor vehicles. WFRC's conformity determination shows that starting with 2012, there would be no need to trade from the PM10 emission budget to the NOX emission budget to show conformity, as the projected 2012 NOX emissions of 31.56 tons per day would be below the PM10 SIP's NOX budget of 32.30 tons per day. Information from the WFRC's conformity determination, that was approved by the FHWA, is provided below:

Budgets for 2002 (derived from the PM10 SIP): NOX = 38.84 tons per day (tpd), PM10 = 39.91 tons per day.

Budgets for 2003 and beyond (derived from the PM10 SIP): NOX = 32.30 tpd, PM10 = 40.30 tpd.

Excerpts from the WFRC's LRTP Table 10 are as follows:

Year | Projected NOX (tpd) | Projected Particulates (tpd)
2002 | 54.21 | 18.19
2003 | 52.99 | 18.36
2006 | 43.70 | 19.53
2012 | 31.56 | 22.37
2022 | 24.30 | 26.21
2030 | 26.83 | 29.71

Comment 6: Sierra Club stated they believe the rule should not have been exempted from review under Executive Order 13045 Protection of Children from Environmental Health Risks and Safety Risks (They reference Executive Order 13040). “Complying with the Executive Order would mean that there would have to be an explanation of why the planned regulation is preferable to other potentially effective and reasonably feasible alternatives considered by the Agency. The Agency did not consider other alternatives. We wish to point out that children are especially susceptible to the dangers of PM2.5 pollution. Children in Salt Lake County were subjected to 24 days of PM2.5 pollution above the 40.5 ug/m3 level at which EPA requires health alerts to be issued to the susceptible population. Those 24 days were within a 62 day time period from December 18, 2001 through February 17, 2002.”

Response to Comment 6: We are not permitted to consider health and safety risks or require or engage in an alternatives analysis in acting on SIPs. Under the CAA, we must approve SIPs if they meet the requirements of the CAA. The State's SIP revision meets the CAA's requirements, and thus, we are required to approve it, even though there might be other alternatives the State could have adopted that would have resulted in less risk to children. Furthermore, the Executive Order applies only to rules that are considered economically significant under Executive Order 12866 which this rule is not. Consequently, Executive Order 13045 does not apply to this action.

Comment 7: Sierra Club stated: “It is very important for EPA to be able to perform evaluation analyses of unintended effects of the proposed trading rule at any time deemed appropriate and to be able to issue a SIP call to remedy the adverse effects if the State does not pursue remedy.”

Response to Comment 7: We agree with the Sierra Club that, as this is the first use of the provisions of 40 CFR 93.124(c), the State and EPA must be alert to unintended adverse impacts. In addition, we wish to reiterate that if we determine there are adverse air quality effects associated with the implementation of the new rule, R307-310, or if we determine that the State has failed to make the necessary SIP revisions to remedy identified adverse effects, EPA may exercise our authority to issue a SIP call consistent with the provisions of section 110(k)(5) of the Clean Air Act (CAA) as amended in 1990.

V. Final Action

In this action, we are approving the Governor's May 13, 2002, submittal of a revision to the Utah State Implementation Plan—namely, new rule R307-310—that would allow the trading of a portion of the PM10 motor vehicle emissions budget to the NOX motor vehicle emissions budget in the Salt Lake County PM10 SIP. This trading mechanism will allow a portion of the PM10 motor vehicle emissions budget to be applied instead to the NOX motor vehicle emissions budget on a 1:1 ratio, thus increasing the NOX motor vehicle emissions budget and decreasing the PM10 motor vehicle emissions budget in the Salt Lake County PM10 SIP by an equivalent amount. These adjusted budgets would then be used for transportation conformity purposes. This final action will become effective on July 31, 2002.

Administrative Requirements

(a) Executive Order 12866

The Office of Management and Budget (OMB) has exempted this regulatory action from Executive Order 12866, entitled “Regulatory Planning and Review.”

(b) Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it is not economically significant and EPA does not have the discretion to engage in a risk assessment or alternatives analysis in acting on SIP revisions.

(c) Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the regulation. EPA also may not issue a regulation that has federalism implications and that preempts State law unless the Agency consults with State and local officials early in the process of developing the regulation.

This rule will not have substantial direct effects on the States, on the relationship between the national government and the States, or on the distribution of power and responsibilities among the various levels of government, as specified in Executive Order 13132, because it merely approves state rules implementing a federal standard, and does not alter the relationship or the distribution of power and responsibilities established in the Clean Air Act. Thus, the requirements of section 6 of the Executive Order do not apply to this rule.

(d) Executive Order 13175 (Consultation and Coordination With Indian Tribal Governments)

Executive Order 13175, entitled “Consultation and Coordination with Indian Tribal Governments” (65 FR 67249, November 6, 2000), requires EPA to develop an accountable process to ensure “meaningful and timely input by tribal officials in the development of regulatory policies that have tribal implications.”

This final rule does not have tribal implications. It will not have substantial direct effects on tribal governments, on the relationship between the Federal government and Indian tribes, or on the distribution of power and responsibilities between the Federal government and Indian tribes, as specified in Executive Order 13175. Thus, Executive Order 13175 does not apply to this rule.

(e) Executive Order 13211 (Energy Effects)

This rule is not subject to Executive Order 13211 “Actions Concerning Regulations That Significantly Affect Energy Supply, Distribution, or Use” (66 FR 28355 (May 22, 2001)) because it is not a significant regulatory action under Executive Order 12866.

(f) Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This final approval will not have a significant impact on a substantial number of small entities because SIP approvals under section 110 and subchapter I, part D of the Clean Air Act do not create any new requirements, but simply approve requirements that the State is already imposing. Therefore, because the SIP final approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2). Therefore, because the final rule does not create any new requirements, I certify that the final rule will not have a significant economic impact on a substantial number of small entities.

(g) Unfunded Mandates

Under section 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that this final approval action does not include a Federal mandate that may result in estimated costs of $100 million or more to either State, local, or tribal governments in the aggregate, or to the private sector. This Federal action approves pre-existing requirements under State or local law, and imposes no new requirements. Accordingly, no additional costs to State, local, or tribal governments, or to the private sector, result from this action.

(h) Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective July 31, 2002.

(i) National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

(j) Petitions for Judicial Review

Under section 307(b)(1) of the Clean Air Act, petitions for judicial review of this action must be filed in the United States Court of Appeals for the appropriate circuit by July 31, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2) of the Clean Air Act.)

List of Subjects in 40 CFR Part 52

Environmental protection, Air pollution control, Carbon monoxide, Incorporation by reference, Intergovernmental relations, Nitrogen dioxide, Ozone, Particulate matter, Reporting and recordkeeping requirements.

Dated: June 20, 2002.
Jack McGraw,
Acting Regional Administrator, Region VIII.

Title 40, chapter I, part 52 of the Code of Federal Regulations is amended as follows:

PART 52—[AMENDED]

1. The authority citation for part 52 continues to read as follows:

Authority: 42 U.S.C. 7401 et seq.

Subpart TT—Utah

2. Section 52.2320 is amended by adding paragraph (c)(51 ) to read as follows:

§ 52.2320 Identification of plan.

* * * * *

(c) * * *

(51 ) On May 13, 2002, the Governor of Utah submitted a revision to Utah's SIP involving a new rule R307-310 “Salt Lake County: Trading of Emission Budgets for Transportation Conformity.” R307-310 allows trading from the motor vehicle emissions budget for primary Particulate Matter of 10 microns or less in diameter (PM10) in the Salt Lake County PM10 SIP to the motor vehicle emissions budget for Nitrogen Oxides (NOX) in the Salt Lake County PM10 SIP. This trading mechanism allows Salt Lake County to increase their NOX budget in the Salt Lake County PM10 SIP by decreasing their PM10 budget by an equivalent amount. These adjusted budgets in the Salt Lake County PM10 SIP would then be used for transportation conformity purposes.

(i) Incorporation by reference.

(A) Rule R307-310 “Salt Lake County: Trading of Emission Budgets for Transportation Conformity”, as adopted on May 13, 2002, by the Utah Air Quality Board, and State effective on May 13, 2002.

[FR Doc. 02-16458 Filed 6-28-02; 8:45 am]

BILLING CODE 6560-50-P